DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 10296, dated March 5, 2010) is amended to reflect the reorganization of the Office of the Chief Science Officer, Office of the Director, Centers for Disease Control and Prevention.

Section C-B, Organization and Functions, is hereby amended as follows: Delete in its entirety the title and functional statement for the Office of the Chief Science Officer (CAS), and insert the following:

Office of the Associate Director for Science (CAS). The Associate Director for Science (OADS) and staff provide CDC/ATSDR with scientific vision and leadership in promoting quality and integrity of CDC science, and helping to encourage the application of science to solving important public health problems.

Office of the Director (CAS1). (1) Directs, manages, and coordinates the activities of the OADS; (2) develops goals and objectives, provides leadership, policy formation, scientific oversight, and guidance in program planning and development; and (3) oversees functions of Office of Science Quality and Translation, Office of Scientific Integrity, and Innovation and Special Projects Activity.

Innovation and Special Projects Activity (CAS13). (1) Provides oversight and leadership in major or cross-cutting scientific activities; (2) represents the agency and the director on high-level internal and external scientific activities and groups; (3) develops and advances CDC research priorities; (4) handles high-profile or controversial issues and mediates (internally and externally) in difficult, contentious situations; (5) helps to develop and encourage innovation throughout the spectrum from scientific discovery to the application of science to solving health problems; (6) maintains regular, open, and transparent communication with CDC science community and uses the results to contribute to problem solving; (7) provides oversight for CDC science-related workgroups; (8) provides leadership opportunities for scientists; and (9) encourages appropriate internal and external collaborations and partnerships related to science issues.

Office of Science Quality and Translation (CASH). (1) Provides consultation and advice and support to the CDC OD, National Centers, programs, ADSs, MMWR, and other relevant organizations related to intramural and extramural scientific activities; (2) leads development of policies related to intramural and extramural science; (3) performs and facilitates good quality internal and external peer review; (4) ensures transparency and accountability of CDC extramural research programs; (5) provides oversight of knowledge management activities involving Documentum and eClearance; (6) supports and champions evidence-based decisionmaking to support practice, program, and policy inside and outside of CDC; (7) encourages the production and communication of science products that address essential questions for practice and policy; (8) assures that science products are perceived as timely and useful for decisionmaking; (9) enhances access to CDC publications; (10) feeds back key program and policy research gaps into the research agenda; and (11) links the needs of public health practitioners and decisionmakers into the development of CDC research projects and publications (in collaboration with Associate Directors for Program, and State, Tribal, Local, and Territorial Support).

Office of Scientific Integrity (CASJ). (1) Protects the rights and welfare of human beings who participate in research; (2) complies with laws and principles in the care and use of laboratory animals at CDC; (3) ensures compliance with Paperwork Reduction Act to protect the privacy of individuals in records maintenance; (4) serves as the agency research integrity liaison officer; (5) ensures leadership in public health ethics and integrate ethical analysis into day-to-day decisions and activities across CDC; (6) oversees emergency use authorization (EUA); (7) establishes newly required oversight and regulatory activities; (8) provides independent assessment and resolution of contentious situations/issues; and (9) provides training relevant to science quality and integrity to CDC community.

Dated: March 11, 2010.
William P. Nichols,
Chief Operating Officer, Centers for Disease Control and Prevention.

[FR Doc. 2010-6594 Filed 3-25-10; 8:45 am]

BILLING CODE 4160-18-M